DEPARTMENT OF THE INTERIOR

National Park Service

[NPS-NER-FRST-30580; PS.SNELA0085.00.1]

Minor Boundary Revision at First State National Historical Park

AGENCY: National Park Service, Interior.

ACTION: Notification of boundary revision.

SUMMARY: The boundary of First State National Historical Park is modified to include approximately 254 acres of land located in Concord Township, Delaware County, Pennsylvania, immediately adjoining the boundary of First State National Historical Park. Subsequent to the boundary revision, the National Park Service will acquire the land by donation from The Conservation Fund, a nonprofit conservation organization.

DATES: The effective date of this boundary revision is September 8, 2020.

ADDRESSES: The map depicting this boundary revision is available for inspection at the following locations: National Park Service, Land Resources Program Center, Interior Region 1, New England Office, 115 John Street, 5th Floor, Lowell, MA 01852, and National Park Service, Department of the Interior, 1849 C Street NW, Washington, DC 20240.

FOR FURTHER INFORMATION CONTACT: Realty Officer Jennifer Cherry, National Park Service, Land Resources Program Center, Interior Region 1, New England Office, 115 John Street, 5th Floor, Lowell, MA 01852, telephone (978) 970-5260.

SUPPLEMENTARY INFORMATION: Notice is hereby given that, pursuant to 54 U.S.C. 100506(c), the boundary of First State National Historical Park is modified to include two adjoining tracts containing a total of 254 acres of land, more or less. This boundary revision is depicted on Map No. 207/139,641, dated August 2017.

54 U.S.C. 100506(c) provides that, after notifying the House Committee on Natural Resources and the Senate Committee on Energy and Natural Resources, the Secretary of the Interior is authorized to make a boundary revision upon publication of notice in the Federal Register. The Committees have been notified of this boundary revision. This boundary revision and subsequent acquisition will ensure preservation and protection of the park's scenic and historic resources.

Gay Vietzke,
Regional Director, Interior Region 1.

[FR Doc. 2020-19708 Filed 9-4-20; 8:45 am]

BILLING CODE 4312-52-P